DEPARTMENT OF DEFENSE

Office of the Secretary

32 CFR Part 199

RIN 0720-AA62

Civilian Health and Medical Program of the Uniformed Services (CHAMPUS) TRICARE, Partial Implementation of Pharmacy Benefits Program; Implementation of National Defense Authorization Act Medical Benefits for Fiscal Year 2001; Change in Effective Date

AGENCY: Office of the Secretary, Defense.

ACTION: Interim final rule.

SUMMARY: On Friday, February 9, 2001 (66 FR 9651), the Department of Defense published an Interim final rule on Partial Implementation of Pharmacy Benefits Program; Implementation of National Defense Authorization Act Medical Benefits for Fiscal Year 2001. This document is published to change the effective date of that rule in accordance with the statutory requirements of the National Defense Authorization Act for Fiscal Year 2001, which directed implementation of specific medical benefits on April 1, 2001.

EFFECTIVE DATE: The effective date of the rule is amended to April 1, 2001.

FOR FURTHER INFORMATION CONTACT: L.M. Bynum, 703-601-4722.

Dated: February 9, 2001.
L.M. Bynum,
Alternate OSD Federal Register Liaison, Department of Defense.

[FR Doc. 01-3788 Filed 2-14-01; 8:45 am]

BILLING CODE 5001-10-M